DEPARTMENT OF VETERANS AFFAIRS

[OMB Control No. 2900-New (10-0488)]

Agency Information Collection (Follow-Up Study of a National Cohort of Gulf War and Gulf Era Veterans) Activity Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATES: Comments must be submitted on or before December 17, 2010.

ADDRESSES: Submit written comments on the collection of information through http://www.Regulations.gov; or to VA's OMB Desk Officer, OMB Human Resources and Housing Branch, New Executive Office Building, Room 10235, Washington, DC 20503, (202) 395-7316. Please refer to “OMB Control No. 2900-New (10-0488)” in any correspondence.

FOR FURTHER INFORMATION CONTACT: Denise McLamb, Enterprise Records Service (005R1B), Department of Veterans Affairs, 810 Vermont Avenue, NW., Washington, DC 20420, (202) 461-7485, fax (202) 273-0966 or e-mail denise.mclamb@mail.va.gov. Please refer to “OMB Control No. 2900-New (10-0488).”

SUPPLEMENTARY INFORMATION: Titles: Follow-Up Study of a National Cohort of Gulf War and Gulf Era Veterans, VA Form 10-0488 and Consent Form for Release of Medical Records, VA Form 10-0488a.

OMB Control Number: 2900-New (10-0488).

Type of Review: New collection.

Abstracts:

a. The data collected on VA Form 10-0488, will help VA to assess the health of Gulf War veterans who were exposed to a variety of environmental factors potentially linked to chronic condition including Chronic Fatigue Syndrome and unexplained multi-system illnesses. VA will use the data to better understand the long-term consequences of military deployment and to provide better health care for Gulf War veterans.

b. VA Form 10-0488a is completed by claimants to request release of medical records from their health care provider.

An agency may not conduct or sponsor, and a person is not required to respond to a collection of information unless it displays a currently valid OMB control number. The Federal Register Notice with a 60-day comment period soliciting comments on this collection of information was published on September 9, 2010, at pages 54965-54966.

Affected Public: Individuals or households.

Estimated Annual Burden:

a. Follow-Up Study of a National Cohort of Gulf War and Gulf Era Veterans, VA Form 10-0488—9,000.

b. Consent Form for Release of Medical Records, VA Form 10-0488a—117.

Frequency of Response: Annually.

Estimated Average Burden per Respondents:

a. Follow-Up Study of a National Cohort of Gulf War and Gulf Era Veterans, VA Form 10-0488—30 minutes.

b. Consent Form for Release of Medical Records, VA Form 10-0488a—10 minutes.

Estimated Annual Responses:

a. Follow-Up Study of a National Cohort of Gulf War and Gulf Era Veterans, VA Form 10-0488—18,000.

b. Consent Form for Release of Medical Records, VA Form 10-0488a—700.

Dated: November 12, 2010.
By direction of the Secretary.
Denise McLamb,
Program Analyst, Enterprise Records Service.

[FR Doc. 2010-28978 Filed 11-16-10; 8:45 am]

BILLING CODE 8320-01-P